DEPARTMENT OF TRANSPORTATION

Pipeline and Hazardous Materials Safety Administration

[Docket: PHMSA-98-4957]

Request for Public Comments and Office of Management and Budget Approval of an Existing Information Collection (2137-0596)

AGENCY: Pipeline and Hazardous Materials Safety Administration (PHMSA), U.S. Department of Transportation (DOT).

ACTION: Notice and request for comments.

SUMMARY: In compliance with the Paperwork Reduction Act of 1995 (PRA), this notice announces that PHMSA forwarded an Information Collection Request to the Office of Management and Budget (OMB) for an extension of the currently approved collection for National Pipeline Mapping System (NPMS) data reporting. On March 23, 2007, PHMSA published a Federal Register notice soliciting comments on this information collection. No comments were received. The purpose of this notice is to allow the public an additional 30 days to submit comments.

DATES: Submit comments on or before July 2, 2007.

ADDRESSES: Send comments directly to the Office of Management and Budget, Office of Information and Regulatory Affairs, Attn: Desk Officer for the Department of Transportation, 725 17th Street, NW, Washington, DC 20503.

FOR FURTHER INFORMATION CONTACT: Robert Smith at (202) 366-3814, or by e-mail at robert.smith@dot.gov.

SUPPLEMENTARY INFORMATION: The Federal Pipeline Safety Act (49 U.S.C. 60132) requires operators of pipeline facilities (except distribution lines and gathering lines) to submit geospatial data appropriate for use in PHMSA's NPMS. Operators must submit data on an annual basis in accordance with guidelines detailed in the NPMS's operator standards document (https://www.npms.phmsa.dot.gov/Documents/2004_Standards.pdf). PHMSA uses the NPMS as a tool to support various regulatory programs, pipeline inspections, and authorized external customers. Any changes to the data over the previous year submitted to the NPMS allow PHMSA to maintain and improve the accuracy of the data.

Pursuant to 44 U.S.C. § 3506(c)(2)(A) of the PRA, PHMSA published a notice with request for comments in the Federal Register on March 23, 2007 (72 FR 13858). No comments were received. PHMSA is now forwarding the information collection request to the OMB and providing an additional 30 days for comments. The term “information collection” includes all work related to the preparing and disseminating information in accordance with the recordkeeping requirements. PHMSA invites comments on whether the renewal of the existing NPMS information collection is necessary for the proper performance of the functions of the DOT. The comments may address (1) whether the information will have practical utility; (2) the accuracy of the DOT's estimate of the burden of the proposed information collection; (3) ways to enhance the quality, utility, and clarity of the information collection; and (4) ways to minimize the burden of the information collection on respondents, including the use of automated collection techniques or other forms of information technology.

Type of Information Collection Request: Renewal of Existing Collection.

Title of Information Collection: National Pipeline Mapping System.

Respondents: 894 pipeline operators mapping 420,117 pipeline miles.

Estimated Total Annual Burden on Respondents: 14,004 hours.

Issued in Washington, DC on May 11, 2007.
Florence L. Hamn,
Director of Regulations, Office of Pipeline Safety.

[FR Doc. E7-10443 Filed 5-30-07; 8:45 am]

BILLING CODE 4910-60-P